DEPARTMENT OF VETERANS AFFAIRS

38 CFR Part 3

RIN 2900-AM98

Reimbursement for Interment Costs

AGENCY: Department of Veterans Affairs.

ACTION: Final rule.

SUMMARY: This document amends the Department of Veterans Affairs (VA) adjudication regulations on burial benefits to incorporate a change made by the Dr. James Allen Veteran Vision Equity Act of 2007. Specifically, this document eliminates a 2-year time limitation for States to file with VA claims for reimbursement of interment costs. The removal of this time limitation is necessary to conform the regulations to recent legislation and governing statutes.

DATES: Effective Date: This amendment is effective May 12, 2009.

Applicability Date: In accordance with section 202(a)(2) of the Dr. James Allen Veteran Vision Equity Act of 2007, this amendment will apply with respect to interments and inurnments of unclaimed remains of deceased veterans occurring on or after October 1, 2006. This amendment will apply to all other interments and inurnments occurring on or after the date of publication in the Federal Register.

FOR FURTHER INFORMATION CONTACT: Thomas Kniffen, Chief of Regulations Staff (211D), Compensation and Pension Service, Veterans Benefits Administration, Department of Veterans Affairs, 810 Vermont Avenue, NW., Washington, DC 20420, (202) 461-9725.

SUPPLEMENTARY INFORMATION: Section 3.1604 of title 38, Code of Federal Regulations, governs VA burial benefits when non-VA sources have paid or contributed to burial expenses. Section 3.1604(d) governs payment of the plot or interment allowance to a State or political subdivision of a State. Section 3.1604(d)(2) governs claims for the plot or interment allowance, and the second sentence in § 3.1604(d)(2) requires that such a claim be filed with VA within 2 years after the permanent burial or cremation of the body. Section 202(a) of the Dr. James Allen Veteran Vision Equity Act of 2007, Public Law 110-157, repealed this second sentence as it pertains to unclaimed remains of a deceased veteran.

Although the legislation removed the 2-year time limit only for claims regarding the unclaimed remains of a deceased veteran, we have decided to eliminate the 2-year time limit on all claims for plot or interment allowances.

Currently, 38 U.S.C. 2304 contains the only statutory time limitation on the filing of an application for burial benefits within title 38, United States Code. Section 2304 requires that applications for payment of the burial allowance for non-service-connected deaths under 38 U.S.C. 2302 must be filed within 2 years after the burial of the veteran. However, this time limit does not extend to the plot or interment allowance authorized by 38 U.S.C. 2303(b), the benefit § 3.1604(d)(2) governs. Therefore, we are removing the second and the third sentences of current § 3.1604(d)(2), which limit the time for filing claims for the plot or interment allowance under section 2303(b).

Administrative Procedure Act

This final rule merely conforms VA regulations governing burial benefits to a recent legislative change and relieves a restriction (eliminates a time limit). Accordingly, there is good cause for dispensing with the notice-and-comment and delayed-effective-date procedures otherwise required by 5 U.S.C. 553 because such procedures are impractical, unnecessary, and contrary to the public interest.

Paperwork Reduction Act

This document contains no provisions constituting a collection of information under the Paperwork Reduction Act (44 U.S.C. 3501-3521).

Regulatory Flexibility Act

The Secretary hereby certifies that this final rule will not have a significant economic impact on a substantial number of small entities as they are defined in the Regulatory Flexibility Act, 5 U.S.C. 601-612. The Secretary does acknowledge that this final rule may affect some States and political subdivisions of States, including a few political subdivisions of States that may be considered small entities; however, the economic impact is not significant. This final rule does not impose any new requirements on States or political subdivisions of States in order to receive the burial benefits governed by 38 CFR 3.1604. It merely eliminates the time restriction on when they may file for such benefits. To the extent that small entities are affected, the impact of this amendment is both minimal and entirely beneficial. Therefore, pursuant to 5 U.S.C. 605(b), this final rule is exempt from the initial and final regulatory flexibility analysis requirements of sections 603 and 604.

Executive Order 12866

Executive Order 12866 directs agencies to assess all costs and benefits of available regulatory alternatives and, when regulation is necessary, to select regulatory approaches that maximize net benefits (including potential economic, environmental, public health and safety, and other advantages; distributive impacts; and equity). The Executive Order classifies a “significant regulatory action,” requiring review by the Office of Management and Budget (OMB), as any regulatory action that is likely to result in a rule that may: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

The economic, interagency, budgetary, legal, and policy implications of this final rule have been examined, and it has been determined not to be a significant regulatory action under Executive Order 12866.

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any year. This final rule would have no such effect on State, local, and tribal governments, or on the private sector.

Catalog of Federal Domestic Assistance Numbers and Titles

The Catalog of Federal Domestic Assistance program numbers and titles for this rule are 64.101, Burial Expenses Allowance for Veterans; 64.201, National Cemeteries; 64.203, State Cemetery Grants.

List of Subjects in 38 CFR Part 3

Administrative practice and procedure, Claims, Disability benefits, Health care, Pensions, Radioactive materials, Veterans, Vietnam.

Approved: April 9, 2009.
John R. Gingrich,
Chief of Staff, Department of Veterans Affairs.

For the reasons set forth in the preamble, 38 CFR part 3 is amended as follows:

PART 3—ADJUDICATION

Subpart B—Burial Benefits

1. The authority citation for part 3, subpart B continues to read as follows:

Authority: 105 Stat. 386, 38 U.S.C. 501(a), 2302-2308, unless otherwise noted.

§ 3.1604 [Amended]

2. Amend § 3.1604(d)(2) by removing the second and third sentences.

[FR Doc. E9-10982 Filed 5-11-09; 8:45 am]

BILLING CODE P